ENVIRONMENTAL PROTECTION AGENCY

[Regional Docket No. II-2005-06; FRL-8192-7]

Clean Air Act Operating Permit Program; Petition for Objection to State Operating Permit for the Camden Cogeneration Plant (CCP)

AGENCY: Environmental Protection Agency (EPA).

ACTION: Notice of final order on petition to object to a State operating permit.

SUMMARY: This document announces that the EPA Administrator has responded to a petition asking EPA to object to an operating permit issued by the New Jersey Department of Environmental Protection (NJDEP). Specifically, the Administrator has partially granted and partially denied a joint petition submitted by the South Jersey Environmental Alliance (SJEJA), and the New Jersey Public Interest Research Group (NJPIRG), to object to the state operating permit issued to the Camden Cogeneration Plant.

Pursuant to section 505(b)(2) of the Clean Air Act (Act), Petitioner (SJEJA) may seek judicial review of those portions of the CCP petition which EPA denied in the United States Court of Appeals for the appropriate circuit. Any petition for review shall be filed within 60 days from the date this notice appears in the Federal Register, pursuant to section 307 of the Act.

ADDRESSES: You may review copies of the final order, the petition, and all relevant information at the EPA Region 2 Office, 290 Broadway, New York, New York 10007-1866. If you wish to examine these documents, you should make an appointment at least 24 hours before visiting day. Additionally, the final order for CCP is available electronically at: http://www.epa.gov/region07/programs/artd/air/title5/petitiondb/petitiondb2005.htm.

FOR FURTHER INFORMATION CONTACT: Steven Riva, Chief, Permitting Section, Air Programs Branch, Division of Environmental Planning and Protection, EPA, Region 2, 290 Broadway, 25th Floor, New York, New York 10007-1866, telephone (212) 637-4074.

SUPPLEMENTARY INFORMATION: The Act affords EPA a 45-day period to review, and object to as appropriate, operating permits proposed by State permitting authorities. Section 505(b)(2) of the Act authorizes any person to petition the EPA Administrator within 60 days after the expiration of this review period to object to State operating permits if EPA has not done so. Petitions must be based only on objections to the permit that were raised with reasonable specificity during the public comment period provided by the State, unless the petitioner demonstrates that it was impracticable to raise these issues during the comment period or the grounds for the issues arose after this period.

On October 26, 2005, the EPA received a petition from Petitioners, requesting that EPA object to the issuance of the title V operating permit for the CCP based on the following allegations: (1) The permit lacks a statement of basis; (2) the permit fails to include a compliance schedule; (3) CCP's past violations are not properly addressed through permit enforcement action and in the permitting process; (4) the permit needs additional monitoring, recordkeeping and reporting provisions; (5) the permit failed to adequately limit emissions of particulate matter; and (6) the permit failed to enforce environmental justice requirements.

On May 25, 2006, the Administrator issued an order partially granting and partially denying the petition on CCP. The order explains the reasons behind EPA's conclusion that the NJDEP must re-issue the permit to include annual tune-up requirements for the turbine. The order also explains the reasons for denying Petitioners' remaining claims.

Dated: June 15, 2006.
Alan J. Steinberg,
Regional Administrator, Region 2.

[FR Doc. E6-10735 Filed 7-7-06; 8:45 am]

BILLING CODE 6560-50-P